DEPARTMENT OF ENERGY

Federal Energy Regulatory Commission

[Docket No. RP03-239-000]

CenterPoint Energy Gas Transmission Company; Notice of Proposed Changes to FERC Gas Tariff

February 6, 2003.

Take notice that on January 23, 2003., CenterPoint Energy Gas Transmission Company (CEGT), formerly Reliant Energy Gas Transmission Company, tendered for filing as part of its FERC Gas Tariff, Sixth Revised Volume No. 1, the tariff sheets attached as Appendix A to the filing, to be effective February 28, 2003. The purpose of this filing is to reflect CEGT's name change.

Any person desiring to be heard or to protest said filing should file a motion to intervene or a protest with the Federal Energy Regulatory Commission, 888 First Street, NE., Washington, DC 20426, in accordance with Sections 385.314 or 385.211 of the Commission's Rules and Regulations. All such motions or protests must be filed on or before the comment date. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment date: February 14, 2003.

Magalie R. Salas,
Secretary.

[FR Doc. 03-3542 Filed 2-12-03; 8:45 am]

BILLING CODE 6717-01-P